DEPARTMENT OF THE INTERIOR

National Park Service

National Register of Historic Places; Notification of Pending Nominations

Nominations for the following properties being considered for listing in the National Register were received by the National Park Service before December 25, 2004. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by January 24, 2005.

Carol D. Shull,
Keeper of the National Register of Historic Places.

ALASKA

Southeast Fairbanks Borough-Census Area, Slana Roadhouse, Mile 1, Nebesna Rd., Slana, 04001569

Wrangell-Peterburg Borough-Census Area, Cape Decision Light Station, (Light Stations of the United States MPS), SW extremity of Kuiu Island, N of the jct of Chatham and Sumner Straits, approx. 63 mi. S of Sitka, Sitka, 04001568

CONNECTICUT

Hartford County

Avon Center Historic District, Roughly along Old Farm Rd., Farrington Valley Greenway, Ct 44 and Mt. View Ave., Avon, 04001570

FLORIDA

Palm Beach County

Palm Beach Town Hall, 360 South County Rd., Palm Beach, 04001571

MASSACHUSETTS

Middlesex County

Old Town Hall, 10 Kendal Rd., Tynsborough, 04001574

Suffolk County

Morton Street, Metropolitan Park System of Greater Boston, (Metropolitan Park System of Greater Boston MPS), Morton St., Boston, 04001572

Neponset Valley Parkway, Metropolitan Park System of Greater Boston, (Metropolitan Park System of Greater Boston MPS), Neponset Valley Parkway, Boston, 04001573

MICHIGAN

Houghton County

Laurium Historic District, Roughly bounded by Calumet, Stable, N. Florida, and Isle Royale Sts., Laurium, 04001578

Leelanau County

Core, William and Margaret McFarland, Farm, 5946 S. Center Hwy; 5856 S. Lake Leelanau Dr., Bingham Township, 04001579

Wayne County

Cass Park Historic District, Temple, Ledyard, and 2nd at Cass Park, Detroit, 04001580

Denby, Edwin, High School, 12800 Kelly Rd., Detroit, 04001581

Detroit Club, 712 Cass Ave., Detroit, 04001577

MISSOURI

Greene County

Wilhoit, E.M., Building, (Springfield, Missouri MPS (Additional Documentation)) 300-330 E. Pershing St., Springfield, 04001576

Scott County

Commerce City Hall, Village Square bordered by Tywappity, Cape Girardeau, Spring and Washington, Commerce, 04001575

NEW MEXICO

Otero County

St. Joseph Apace Mission Church, 626 Mission Trail, Mescalero, 04001588

NORTH CAROLINA

Northampton County

Mason—Hardee—Capel House, NC 1308, 0.8 mi. W of NC 1307, Garysburg, 04001587

Robeson County

Rowland Main Street Historic District, Roughly bounded by the 100 and 200 blks of W. Main St., 100 blk of E. Main St., and Hickory and E and W Railroad Sts., Rowland, 04001582

Stokes County

Christ Episcopal Church, 412 Summit Ave., Walnut Cove, 04001586

Vance County

West End School, 1000 S. Chestnut St., Henderson, 04001585

Wake County

Washington Graded and High School, 1000 Fayetteville St., Raleigh, 04001584

Watauga County

Valle Crucis Historic District, Along NC 194 and NC 1112, Valle Crucis, 04001600

Wayne County

Borden Manufacturing Company, 800 and 801 N. William St., Goldsboro, 04001583

RHODE ISLAND

Providence County

Elmgrove Gardens Historic District, Rochambeau, Morris and Cole Aves. and Fosdyke and Woodbury Sts., Providence, 04001589

SOUTH CAROLINA

Richland County

Olympia Mill, 500 Heyward St., Colimbia, 04001590

Spartanburg County

Shiloh Methodist Church, Blackstock Rd., Inman, 04001591

VIRGINIA

Bristol Independent City, Douglass School, 711 Oakview Ave., Bristol (Independent City), 04001592

WASHINGTON

Whatcom County

Morse Hardware Company Building, 1023-1025 N. State St., Bellingham, 04001594

Sanitary Meat Market, (Commercial Buildings of the Central Business District of Bellingham, Washington MPS) 1015-1019 N. State St., Bellingham, 04001593

WEST VIRGINIA

Lewis County

Jackson's Mill State 4-H Camp Historic District, 160 Jackson Mill Rd., Weston, 04001598

Weston Downtown Residential Historic District, Portions of Main, Center, and Court Aves, East First, East Third, East Fourth, East Fifth and East Sixth Sts., Weston, 04001596

Monongalia County

Greenmont Historic District, Roughly bounded by Arlington, Front, Conn, White Ave., Posten Ave., Kingwood St., and Decker Ave., Morgantown, 04001597

Randolph County

Elkins Milling Company, 2½ Railroad Ave., Elkins, 04001595

[FR Doc. 05-350 Filed 1-6-05; 8:45 am]

BILLING CODE 4312-51-P